DEPARTMENT OF HOMELAND SECURITY

Coast Guard

33 CFR Part 100, 110, and 165

[Docket Number USCG-2025-0903]

RIN 1625-AA08, AA01, AA87

Special Local Regulation, Temporary Anchorage Ground Suspension, and Security Zones: Sail 4th 250, International Naval Review 250; Port of New York and New Jersey

AGENCY: Coast Guard, Department of Homeland Security.

ACTION: Notice of proposed rulemaking.

SUMMARY: The Coast Guard is proposing to establish temporary special local regulations and multiple security zones, and to temporarily suspend certain anchorage grounds in New York Harbor, Sandy Hook Bay, and the Hudson River before, during, and after Sail 4th 250 events, the U.S. Navy's International Naval Review 250 and International Aerial Review, Independence Day fireworks displays, and U.S. Navy Fleet Week events to be held between July 1, 2026 and July 9, 2026. These regulations are necessary to promote the safe navigation of vessels and the safety of life and property during these events. We invite your comments.

DATES: Comments and related material must be received by the Coast Guard on or before February 17, 2026. The dates for the stays and temporary sections are listed in the SUPPLEMENTARY INFORMATION section.

ADDRESSES: To submit comments and view available documents, go to https://www.regulations.gov and search for USCG-2025-0903.

FOR FURTHER INFORMATION CONTACT: If you have questions about this proposed rulemaking, call or email: Mr. Craig Lapiejko, Waterways Management, Coast Guard Northeast District, telephone 571-607-6314, email Craig.D.Lapiejko@uscg.mil, or CDR Timothy Bonner, Sector New York Waterways Management Division, U.S. Coast Guard; telephone 571-610-1808, email Timothy.A.Bonner@uscg.mil.

SUPPLEMENTARY INFORMATION:

I. Table of Abbreviations

CFR Code of Federal Regulations

CGD-NE Coast Guard Northeast District Commander

COTP Captain of the Port, New York

DHS Department of Homeland Security

FR Federal Register

IAR International Aerial Review INR 250 International Naval Review 250

NJ New Jersey

NY New York NPRM Notice of proposed rulemaking

§ Section

U.S. United States

U.S.C. United States Code

VTS Vessel Traffic Service, New York

II. Background and Authority

On June 1, 2025, Sail250® ¹ and the United States Navy formally notified the Coast Guard Captain of the Port, New York (COTP) that, from July 1, 2026, through July 9, 2026, they will be conducting a series of major marine events in New York Harbor. Tall Ship Parade of Sail,² an International Naval Review 250 (INR 250),³ an International Aerial Review (IAR),⁴ and U.S. Navy Fleet Week events in New York Harbor in celebration of America's 250th birthday. The Sail250® Tall Ships tour, which also includes the ports of New Orleans, LA; Norfolk, VA; Baltimore, MD; and Boston, MA, has been designated as a Marine Event of National Significance.⁵

¹ https://www.sail250.org/.

² https://sail4th.org/.

³ https://www.navy.mil/Navy-250/Events/.

⁴ https://www.navy.mil/Navy-250/Events/as part of the America 250th celebration, headlined by the U.S. Navy Blue Angels.

⁵ https://www.ecfr.gov/current/title-46/section-26.03-8.

The purpose of this rulemaking is to ensure the safety of vessels and spectators in the vicinity of New York Harbor, before, during, and after the scheduled events are completed. The Coast Guard anticipates thousands of spectator crafts will attend the events. The proposed regulations would create temporary spectator areas, temporary participant staging areas, vessel movement control measures, and security zones around all U.S. Naval Vessels, and foreign naval vessels while anchored, transiting, and moored in various berths around the Port of New York and New Jersey. Additionally, these proposed regulations will temporarily suspend certain anchorage grounds. The proposed regulations would be enforced at various times between July 1, 2026, through July 9, 2026. Due to a high concentration of expected spectator vessels and the series of events, the Coast Guard Northeast District Commander (CGD-NE) and the COTP, have determined these regulations are necessary for the safety of Sail 4th 250 participants, INR 250 participants, spectator vessels, non-participant and non-spectator vessels operating in and around Port of New York and New Jersey, and life and property.

While this rulemaking does not propose establishing any safety zones, it is important to note that after the Sail 4th 250 Tall Ship Parade of Sail, INR 250, IAR, and U.S. Navy Fleet Week events, we anticipate that numerous safety zones would be promulgated for fireworks displays occurring in the harbor through separate rulemaking projects or that safety zones would be enforced under our authorities in 33 CFR 165.160—Table 1.⁶

⁶ https://www.ecfr.gov/current/title-33/section-165.160.

The Coast Guard is proposing this rulemaking under authorities in 33 U.S.C. 2071; 46 U.S.C. 70006, 70034, 70041, 70051, 70124; 33 CFR 1.05-1, 6.04-1, 6.04-6, and 160.5; Department of Homeland Security Delegation No. 00170.1, Revision No. 01.4.

III. Discussion of the Rule

Sail250® and INR 250 are international events that bring together tall ships and military vessels to celebrate the 250th anniversary of the United States. Sail 4th 250 comprises the Sail250® events in the Port of New York and New Jersey. Additional information about Sail 4th 250 can be found at https://sail4th.org/. INR 250, hosted by the U.S. Navy in the Port of New York and New Jersey concurrent with Sail 4th 250, will include a series of events to commemorate this historic occasion. Additional information about INR 250 can be found at https://www.navy.mil/Navy-250/Events/. The regulations would be subject to enforcement upon the arrival of U.S. Naval Vessels, and foreign naval vessels at the Port of New York and New Jersey. These vessels would anchor in the Upper Bay and Hudson River on July 1, 2026, prior to the Sail 4th 250 Tall Ship Parade of Sail, INR 250, IAR, and Independence Day fireworks displays within the regulated areas established within Port of New York and New Jersey on July 4, 2026. Participating tall ships, U.S. Naval Vessels, and foreign naval vessels will be mooring and anchoring in various areas throughout the Port of New York and New Jersey until their departure on July 9, 2026.

The Sail 4th 250 Tall Ship Parade of Sail, INR 250, IAR, and the Independence Day fireworks displays are expected to be extraordinary marine events, celebrating maritime heritage and honoring the 250th anniversary of the founding of the United States. These events will offer unique opportunities to witness impressive parades and celebrations on the water. The Coast Guard typically establishes special local regulations and spectator areas to ensure safer viewing during marine events, and as discussed in this document, this event is no exception. The Coast Guard has collaborated with port partners, area stakeholders, Sail250® and the U.S. Navy, and numerous federal, state, and local agencies, as well as law enforcement organizations, to develop and propose regulations that will support a safe and secure event. However, it is worth mentioning, due to the scale of the event, its heightened security posture, the anticipated crowd size, and limited spectator areas, viewing the Sail 4th 250 Tall Ship Parade of Sail, the INR 250, the IAR, and Independence Day fireworks displays from shore may provide a safer and more convenient alternative, particularly for smaller vessels or less experienced mariners.

Mariners transiting the regulated areas to and from spectator areas should use extra caution, ensure proper watch and assess all risk factors. Large marine events present new challenges to safe navigation, but proper voyage planning and access to relevant information should ensure that safety is not compromised. In general, mariners transiting within the Port of New York and New Jersey during this event should make a careful assessment of all factors associated with their voyage.

These factors at a minimum should include:

(1) The operator's qualifications—which should include their level of experience, physical fitness, and alertness, ensuring they are well-rested and capable of safely operating the vessel.

(2) The vessel's characteristics—which should include the following: appropriate size to safely accommodate passengers and equipment, sufficient maneuverability to navigate the crowded waterway, and sea-keeping ability to handle expected water and weather conditions. The vessel must be capable of remaining in a designated spectator area for extended periods. The vessel should be equipped with required essential safety gear, including U.S. Coast Guard-approved life jackets, functioning navigation lights, fire extinguishers, and reliable communication devices. Additionally, the vessel should provide adequate protection from environmental elements, such as sun, wind, and rain. The propulsion, steering, fuel, and navigational equipment must be in excellent operational condition to ensure reliability and safety throughout the event. Furthermore, the vessel should have the ability to retain or manage its sewage in compliance with environmental regulations.

(3) Weather conditions—both current and forecasted—should include an assessment of sea state, visibility, temperature, sun exposure, precipitation, and wind speed and direction.

(4) Voyage planning should incorporate up-to-date information on the event schedule, including activities such as the Sail 4th 250 Tall Ship Parade of Sail, INR 250, IAR, and Independence Day fireworks displays, as well as the enforcement of regulations, such as designated spectator areas and security zones. Careful consideration should be given to whether the transit will occur during daytime or nighttime. Additional factors to account for include crowded waterways, wake and wave action, limited maneuvering space, anchoring challenges due to strong currents, water depth variations during tidal cycles, and prolonged exposure to environmental conditions including high temperatures and sun or cooler temperatures, rain, and wind.

At the time of this notice, Sail 4th 250 and the United States Navy events and a general overview of proposed regulations include:

1. June 17, 2026-June 29, 2026: The United States Navy will commence installation of moorings for U.S. naval vessels that will be occupying Federal Anchorage FA-21B.

2. July 1, 2026—Proposed Regulated Area `B' will become effective as the United States Navy will commence 4-point mooring of vessels in FA-21B in the Upper Bay. A naval vessel protection zone ⁷ will be enforced around all U.S. Naval Vessels and a 100-yard security zone is proposed around all foreign naval vessels. Upon anchoring, a security zone would be established around the vessels. Certain anchorage grounds in the Port of New York and New Jersey will be temporarily suspended; however, vessels seeking to anchor in an anchorage ground while it is temporarily suspended and not being used as a spectator area or staging area must request authorization from the U.S. Coast Guard Vessel Traffic Service New York (VTS).

⁷ https://www.ecfr.gov/current/title-33/part-165/subpart-G.

3. July 2, 2026—Class A tall ships will commence anchoring in the proposed Sandy Hook Bay staging area. Regulated Area `A' is proposed to be effective as outlined below. The United States Navy will continue anchoring vessels in the Upper Bay and Hudson River each with a proposed security zone as discuss below.

4. July 3, 2026—U.S. and foreign naval vessels continue to transit to their designated anchorages in the Upper Bay and Hudson River with proposed security zones as later discussed below. Established spectator areas would be effective and opened for viewing the Sail 4th 250 Tall Ship Parade of Sail, INR 250, and IAR that are scheduled for July 4, 2026, as below.

5. July 4, 2026—The INR 250 will commence. It is anticipated to consist of a person under the protection of the United States Secret Service onboard a U.S. Naval Vessel transiting past all U.S. and foreign naval vessels anchored in the Hudson River and Upper Bay. The `U.S. Naval Review Vessel' will have a moving security zone as discussed below and will sail from north of the George Washington Bridge, south to the Verrazano Bridge reviewing the Navy fleet. Upon completion of the INR 250, the lead tall ship will commence the Sail 4th 250 Tall Ship Parade of Sail starting from the Verrazano Bridge to the vicinity of the George Washington Bridge. Upon arrival at the end of the parade route, each tall ship will then proceed to their assigned berth at various locations throughout the Port of New York and New Jersey. Simultaneously, the IAR will commence while the Sail 4th 250 Tall Ship Parade of Sail is occurring. At the conclusion of the Sail 4th 250 Tall Ship Parade of Sail, some naval vessels may weigh anchor and transit to berth at various locations in the Port of New York and New Jersey. In the evening, there will be multiple fireworks displays occurring throughout the Hudson River and East River. Safety zones and/or special local regulations for these events will be proposed and created under a separate rulemaking projects at a later date.

6. July 5, 2026—Additional naval vessels will shift from anchorage to their berths located at various areas in Port of New York and New Jersey. There would still be U.S. and foreign naval vessels anchored in the Upper Bay and Hudson River. These vessels would still have a security zone around them in their anchored locations.

7. July 6, 2026—INR 250 participant vessels will continue shifting to berths; however, some will remain at anchor at various locations throughout the Port of New York and New Jersey.

8. July 7, 2026, through July 9, 2026—Tall ships, U.S. naval vessels, and foreign naval vessels depart the Port of New York and New Jersey. Enforcement periods for security zones would collapse as vessels depart. However, naval vessel protection zones as codified in 33 CFR 165.2025 or temporary security zones for foreign naval vessels created by this proposed regulation would remain in effect for vessels as they remain within the Captain of the Port New York Zone.

Special Local Regulations—Background

In 1976, 1986, and 2000, similar events, including OPSAIL 1976, 1986 and 2000, drew several million spectators by land, as well as tens of thousands spectator vessels in Port of New York and New Jersey waters.

An organized water event of limited duration which is conducted according to a prearranged schedule is a “Regatta or marine parade,” as defined at 33 CFR 100.05.⁸ An individual or organization planning to hold a regatta or marine parade which, by its nature, circumstances or location, will introduce extra or unusual hazards to the safety of life on the navigable waters of the U.S. must submit an application to hold it in accordance with 33 CFR 100.15.⁹

⁸ https://www.ecfr.gov/current/title-33/section-100.05.

⁹ https://www.ecfr.gov/current/title-33/section-100.15.

On June 1, 2025, the sponsors of the Sail 4th 250 and INR 250 events submitted applications under 33 CFR 100.15 to conduct the Sail 4th 250 Tall Ship Parade of Sail and INR 250 on July 4, 2026, with participating vessels mooring and anchoring in various berths and areas through the Port of New York and New Jersey, until their departure on July 9, 2026.

Per 33 CFR 100.35, after approving plans for the holding of a regatta or marine parade within their district or zone, CGD-NE and the COTP are authorized to promulgate such special local regulations (SLRs) as they deem necessary to ensure safety of life on the navigable waters immediately prior to, during, and immediately after the approved regatta or marine parade. Due to the high-profile nature of these events, the large number of tall ships, naval vessels, spectator vessels, and support craft will certainly cause vessel congestion in the Port of New York and New Jersey. The COTP has determined that there will be potential hazards associated with the large number of tall ships and naval vessels and significant amount of recreational boating traffic. Thus, the Coast Guard proposes to establish SLRs that would create vessel movement control measures, spectator areas, and staging areas in the Port of New York and New Jersey that will be in effect during the entirety of the Sail 4th 250 Tall Ship Parade of Sail and INR 250 events celebrating America's 250th anniversary. This section would be designated as section 100.T0199-0903.

Special Local Regulation—The Two Regulated Areas

The Coast Guard proposes establishing two regulated areas in the Port of New York and New Jersey that would be in effect from July 1, 2026, through July 9, 2026. These two proposed regulated areas are needed to protect the maritime public and participating vessels from possible hazards to navigation associated with an INR conducted on the Hudson River and New York Harbor Upper Bay, a Tall Ship Parade of Sail in the waters of Sandy Hook Bay, New York Harbor, Hudson River, and East River, and a large number of naval vessels, tall ships, and spectator craft anchored in close proximity throughout the duration of the events. These regulated areas include spectator areas, staging areas, and vessel operating restrictions.

From 6 a.m. on July 4, 2026, through the conclusion of the Sail 4th 250 Tall Ship Parade of Sail, no vessel except Sail 4th 250 or INR 250 participating vessels and their assisting tugs and ticketed spectator vessels may enter or navigate within Regulated Areas `A' or `B', unless specifically authorized by the COTP or their designated representative. Vessels operating on established schedules, such as ferries, may be granted authorization to transit the regulated areas.

Any vessels transiting through Port New York and New Jersey would be required to proceed in accordance with established vessel movement control measures directed by the COTP or designated representative.

Regulated Area `A': All waters of New York Harbor Lower Bay and Sandy Hook Bay within the following boundaries: south of the Verrazano-Narrows Bridge; west of a line drawn shore to shore along 074°00′00″ W between Coney Island, NY, and Highlands, NJ; and east of a line drawn shore to shore along 074°03′12″ W between Fort Wadsworth, Staten Island, and Leonardo, NJ and all waters of Ambrose Channel shoreward of buoys `1' and `2'. These coordinates are based on the World Geodetic System (WGS 84). Please see Figure 1 below depicting proposed Regulated Area `A', included within this NPRM for the convenience of the reader. The proposed area is to be used as a staging area for vessels participating in the Sail 4th 250 Tall Ship Parade of Sail. This proposed area would be enforced from 6 a.m. July 2, 2026, until 4 p.m. on July 4, 2026.

BILLING CODE 9110-04-P

(Figure 1. Chartlet showing the proposed Regulated Area `A'.)

Regulated Area `B': All waters of New York Harbor, Upper Bay, the Hudson, Harlem, and East Rivers, and the Kill Van Kull Channel within the following boundaries: south of 40°54′12″ N, on the Hudson River at Spuyten Duyvil Creek; west of the Throgs Neck Bridge on the East River; north of the Verrazano-Narrows Bridge; and east of a line drawn from shore to shore along 074°05′15″ W, between New Brighton, Staten Island, and Constable Hook, NJ, in the Kill Van Kull Channel. These coordinates are based on the World Geodetic System (WGS 84). Please see Figure 2 below depicting proposed Regulated Area `B', included with this NPRM for the convenience of the reader. This proposed area is for the Sail 4th 250 Tall Ship Parade of Sail, INR 250 and totality of events that are occurring throughout the week. Swimming, conducting underwater diving operations, operating surface or underwater drones, and conducting surveying operations would be prohibited for the duration of these events, unless expressly permitted by the COTP or a designated representative. The heightened security posture within the Port of New York and New Jersey would continue until departure of the participating naval vessels and tall ships. The proposed regulated area would be effective from 10 a.m. on July 1, 2026, until 11:59 p.m. on July 9, 2026. Additional regulations governing these areas can be found at the end of this document under 100.T0199-0903.

(Figure 2. Chartlet showing the proposed Regulated Area `B'.)

Special Local Regulation—Spectator Areas

The Coast Guard proposes establishing nine temporary spectator areas during the Sail 4th 250 Tall Ship Parade of Sail, INR 250, and IAR from 3 p.m. on July 3, 2026, through 8 a.m. on July 5, 2026. These temporary spectator areas would be established in the vicinity of Liberty Island, Caven Point, Jersey Flats, Robbins Reef, Bay Ridge, and South Beach, Staten Island. The proposed size and type of vessels that would be authorized in each spectator area is outlined in the regulatory text at the end of this document under 100.T0199-0903.

It is currently anticipated that vessel operators seeking to attend in spectator areas will have the opportunity to obtain a ticket through procedures established by the Sail 4th 250 event sponsor, which will be announced at a later date.

Following the completion of the Sail 4th 250 Tall Ship Parade of Sail, vessel operators would be able to depart from their respective spectator areas as on-scene safety and security concerns allow. Transits to the south through the Narrows and to the west through the Kill van Kull may be allowed to depart significantly earlier than those transiting north through the East River and Hudson River.

The locations of the proposed temporary spectator areas are shown in Figure 3.

(Figure 3. Chartlet showing the proposed locations of the temporary spectator areas.)

Special Local Regulation—Staging Areas

The Coast Guard is proposing to establish six staging areas for use by Sail 4th 250 participant vessels and command vessels overseeing the Tall Ship Parade of Sail in the vicinity of Ellis Island, Governors Island, Gravesend Bay, and Sandy Hook Bay.

The staging areas in the vicinity of Ellis Island and Governors Island are proposed to be established from 3 p.m. on July 3, 2026, through 8 a.m. on July 5, 2026. The staging area in the vicinity of Gravesend Bay is proposed to be established from 1 p.m. on July 3, 2026, to 4 p.m. on July 4, 2026. The staging areas in the vicinity of Sandy Hook Bay are proposed to be established from 6 a.m. on July 2, 2026, through 4 p.m. on July 4, 2026.

No vessels other than Sail 4th 250 participant vessels, command vessels, designated assist tugs, and enforcement vessels would be permitted to anchor, loiter, or approach within 100 yards of any Sail 4th 250 participant vessel when it is navigating or at anchor in these areas.

The proposed locations of the temporary staging areas are shown in Figures 4 and 5.

(Figure 4. Chartlet showing the proposed locations of the temporary staging locations.)

(Figure 5. Chartlet showing the proposed temporary staging areas in Sandy Hook Bay.)

Security Zones

The Coast Guard is proposing to establish multiple security zones as discussed in the regulatory text at the end of this document under 165.T01-0903. On July 1, 2026, naval vessels will commence transiting into New York Harbor, with U.S. Naval Vessels operating under the protection of naval vessel protection zones as cited in 33 CFR 165.2025.¹⁰ For all participating foreign naval vessels, this rule proposes a 100-yard security zone while within all navigable waters within Sector New York Marine Inspection and Captain of the Port Zones as described in 33 CFR 3.05-30.¹¹ Additionally, the Coast Guard proposes to establish nine fixed security zones to be enforced upon U.S. and foreign naval vessels anchored in the Port of New York and New Jersey. These security zones are proposed to protect U.S. and foreign naval vessels before, during, and after the Sail 4th 250 Tall Ship Parade of Sail, INR 250, and IAR. These security zones are proposed to be established from 12:01 a.m. July 1, 2026, through 11:59 p.m. on July 9, 2026.

¹⁰ eCFR: 33 CFR 165.2025—Atlantic Area.

¹¹ https://www.ecfr.gov/current/title-33/chapter-I/subchapter-A/part-3/subpart-3.05/section-3.05-30.

The proposed locations of the temporary security zones ALPHA through INDIA are depicted in Figures 6, 7, and 8.

(Figure 6. Chartlet showing the proposed locations of the security zones.)

(Figure 7. Chartlet showing the proposed Security Zones in the Hudson River.)

(Figure 8. Chartlet showing the proposed Security Zones in the Upper Bay.)

BILLING CODE 9110-04-C

Furthermore, the Coast Guard is proposing to establish a moving security zone for the “U.S. Naval Review Ship” reviewing the naval fleet. This security zone will include all navigable waters form surface to bottom within a 500-yard radius of the “U.S. Naval Review Ship” from 5 a.m. to 1 p.m. on July 4, 2026. This zone will only be enforced while the vessel is underway reviewing the naval fleet.

Finally, the Coast Guard is proposing to establish a security zone for the “Reviewing Official Viewing Platform”. This security zone will include all waters from surface to bottom within a 500-yard radius of the U.S. Naval Vessel anchored in the vicinity of Federal Anchorage 21-B and will be enforced from 8 a.m. to 11:59 p.m. on July 4, 2026.

The COTP would make notification of exact dates and times in advance of each enforcement period for each security zone to the local maritime community through the Local Notice to Mariners and Broadcast Notice to Mariners on VHF-FM Channel 16.

Vessels seeking permission to transit security zones shall contact the COTP or designated representative on VHF-FM 16 or (844) NYC-USCG.

Temporary Suspension of Anchorages

This proposal includes the temporary suspension of certain anchorage grounds within 33 CFR 110.155 (Port of New York) ¹² through the temporary stay of their associated regulations governing their use, during the periods that the regulated areas, temporary spectator areas, staging areas, and security zones are temporarily in effect. The anchorages we propose to suspend are Anchorage No. 16, Anchorage No. 17, Anchorage No. 19 West, Anchorage No. 20-A, Anchorage No. 20-B, Anchorage No. 20-C, Anchorage No. 20-D, Anchorage No. 20-E, Anchorage No. 20-F, Anchorage No. 20-G, Anchorage No. 21-B, Anchorage No. 21-C, Anchorage No. 23-A, Anchorage No. 23-B, Anchorage No. 24, Anchorage No. 25, Anchorage No. 49-F, and Anchorage No. 49-G. The proposed rule would be effective July 1, 2026, through July 9, 2026. However, vessels seeking to anchor in a traditional anchorage ground while it is temporarily suspended and not being used as a spectator area or staging area for the exclusive use of Sail 4th 250 and INR 250 could request permission to do so. They would need to request authorization from the VTS via VHF-FM channel 14 or by telephone at (718) 354-4088; see 33 CFR 110.155(d)(16) and (l) for additional permission to anchor guidance. All vessels granted permission to anchor would need to comply with lawful instructions of the VTS.

¹² https://www.ecfr.gov/current/title-33/section-110.155.

IV. Regulatory Analyses

We developed this proposed rule after considering numerous statutes and Executive Orders related to rulemaking. Below we summarize our analyses based on a number of these statutes and Executive Orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons.

This regulation would temporarily suspend certain anchorage grounds, create spectator areas and staging areas, impose traffic control measures and security zones in portions of the Port of New York and New Jersey, and designate areas for viewing the Sail 4th 250 Tall Ship Parade of Sail, INR 250, IAR, and U.S. Navy Fleet Week events, all of which would allow for maximum use of the waterway by commercial tour boats that usually operate in the area. However, while the traffic control measures are in place over a substantial portion of the Port of New York and New Jersey, vessel movements will only be restricted for a limited period of time during the aforementioned events. The suspension of temporary anchorage grounds and implementation of security zones will only be effective for up to nine days. Vessels seeking to anchor in a traditional anchorage ground while they are temporarily suspended and not being used as a spectator area or staging area for the exclusive use of the Sail 4th 250 Tall Ship Parade of Sail and the INR 250 could request authorization from the from the VTS. While the security zones are effective for the entire nine days and consume a major portion of the Hudson River, they will not be enforced for the entire period and will allow for vessel traffic to proceed through the federal channel as normal for most of those nine days. As the U.S. Naval Vessels vacate each zone to proceed to berth after the events on July 4, 2026, the enforcement of these temporary security zones might be suspended. Selected vessels, such as ferries operating on established routes may have the opportunity to continue to transit through zones with permission from the COTP or designated representative. The Coast Guard will establish a process for vetting these certain vessels and the public will be notified at a later date. Over the past six months, Sail 4th 250 and the U.S. Navy have held multiple meetings open to port stakeholders discussing these events on July 4, 2026, and during each meeting, varying degrees of waterway impacts have been discussed, including those similar to what is proposed in this NPRM. An extensive advance notice will be made to mariners via appropriate means, which may include broadcast notice to mariners, local notice to mariners, marine safety information bulletins, local port operators group meetings, Harbor Safety Committee meetings, the internet, handouts, or local newspapers and media. The advance notice will permit mariners to adjust their plans accordingly. Similar restrictions were established for other tall ship parades and INR events in 1976, 1986, and 2000. Based upon the Coast Guard's experiences from those previous events of similar magnitude and considering this is the first such event in the Port of New York and New Jersey since the attacks of September 11, 2001, these proposed regulations have been narrowly tailored to impose the least impact on maritime interests while providing the necessary level of safety and security.

If you think that your business, organization, or governmental jurisdiction qualifies as a small entity and that this proposed rule would have a significant economic impact on it, please submit a comment (see ADDRESSES) explaining why you think it qualifies and how and to what degree this proposed rule would economically affect it.

Under section 213(a) of the Small Business Regulatory Enforcement Fairness Act of 1996 (Pub. L. 104-121), if this proposed rule will affect your small business, organization, or governmental jurisdiction and you have questions, contact the person listed in the FOR FURTHER INFORMATION CONTACT section. Small businesses may send comments to the Small Business and Agriculture Regulatory Enforcement Ombudsman and the Regional Small Business Regulatory Fairness Boards by calling 1-888-REG-FAIR (1-888-734-3247).

B. Collection of Information

This proposed rule will not call for a new collection of information under the Paperwork Reduction Act of 1995 (44 U.S.C. 3501-3520).

C. Federalism and Indian Tribal Governments

We have analyzed this proposed rule under Executive Order 13132, Federalism, and have determined that it is consistent with the fundamental federalism principles and preemption requirements described in that Order.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this proposed rule will not result in an annual expenditure of $100,000,000 or more (adjusted for inflation) by a State, local, or tribal government, in the aggregate, or by the private sector.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This proposed rule involves temporarily suspending permanent anchorages, proposing temporary spectator areas, and establishing temporary security zones and vessel traffic control measures to facilitate the safety of all spectator and participant vessels in the Sail 4th 250 Tall Ship Parade of Sail, INR 250, and IAR events. It is categorically excluded from further review under paragraphs L59(b), L60(a), and L61.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0903 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects

33 CFR Part 100

Harbors, Marine safety, Navigation (water), Reporting and recordkeeping requirements, Security measures, and Waterways.

33 CFR Part 110

Anchorage grounds.

33 CFR Part 165

Harbors, Marine safety, Navigation (water), Reporting and record keeping requirements, Security measures, Waterways.

For the reasons discussed in the preamble, the Coast Guard proposes to amend 33 CFR parts 100, 110, and 165 as follows:

PART 100—SAFETY OF LIFE ON NAVIGABLE WATERS

1. The authority citation for part 100 continues to read as follows:

Authority: 46 U.S.C. 70041; 33 CFR 1.05-1.

2. Add § 100.T0199-0903 to read as follows:

§ 100.T0199-0903 Sail 4th 250 and International Naval Review 250, Port of New York and New Jersey.

(a) Regulated areas. (1) Regulated Area `A'—(i) Location. The following area is a special regulated area: All waters of New York Harbor Lower Bay and Sandy Hook Bay within the following boundaries: south of the Verrazano-Narrows Bridge; west of a line drawn shore to shore along 074°00′00″ W between Coney Island, New York, and Highlands, New Jersey; and east of a line drawn shore to shore along 074°03′12″ W between Fort Wadsworth, Staten Island, and Leonardo, New Jersey and all waters of Ambrose Channel shoreward of buoys 1 and 2. These coordinates are based on the World Geodetic System (WGS 84).

BILLING CODE 9110-04-P

(Figure 1 to § 100.T0199-0903: Chartlet Showing Regulated Area `A'.)

(ii) This section will be enforced from 6 a.m. July 2, until 4 p.m. on July 4, 2026.

(2) Regulated Area `B'—(i) Location. The following area is a special regulated area: All waters of New York Harbor, Upper Bay, the Hudson, Harlem, and East Rivers, and the Kill Van Kull Channel within the following boundaries: south of 40°54′12″ N, on the Hudson River at Spuyten Duyvil Creek; west of the Throgs Neck Bridge on the East River; north of the Verrazano-Narrows Bridge; and east of a line drawn from shore to shore along 074°05′15″ W, between New Brighton, Staten Island, and Constable Hook, New Jersey, in the Kill Van Kull Channel. These coordinates are based on the World Geodetic System (WGS 84).

(Figure 2 to § 100.T0199-0903: Chartlet Showing the Regulated Area `B'.)

BILLING CODE 9110-04-C

(ii) This section will be enforced from 10 a.m. on July 1, until 11:59 p.m. on July 9, 2026.

(b) Spectator Areas. (i) Location and prohibition. Each area provided in the table below, expressed in Degrees (°) Minutes (′) Seconds (″) (DMS) based on the World Geodetic System (WGS 84), constitutes a spectator area along with its prohibitions.

Table 1 to § 100.T0199-0903—Supplemental Info to Paragraph (b)
Spectator area | Location | Prohibitions
1 | All navigable waters of the Upper Bay in the vicinity of Liberty Island within a polygon formed by connecting the latitude and longitude points in the following order: 40°41′31.91″ N, 074°02′21.51″ W; thence to 40°41′25.64″ N, 074°02′09.27″ W; thence to 40°41′02.03″ N, 074°02′24.76″ W; thence to 40°41′08.16″ N, 074°02′37.71″ W; and then returning to its point of origin at 40°41′31.91″ N, 074°02′21.51″ W | Exclusive use for spectator vessels less than 82 feet (25 meters) in length.
2 | All navigable waters of the Upper Bay south of Liberty Island, within a polygon formed by connecting the latitude and longitude points in the following order: 40°41′23.45″ N, 074°03′13.23″ W; thence to 40°40′59.45″ N, 074°02′26.45″ W; thence to 40°40′09.39″ N, 074°02′59.28″ W; thence to 40°40′40.90″ N, 074°03′50.15″ W; then returning to its point of origin at 40°41′23.45″ N, 074°03′13.23″ W | Exclusive use for spectator vessels less than 82 feet (25 meters) in length.
3 | All navigable waters of the Upper Bay north of Port Liberty, New Jersey within a polygon formed by connecting the latitude and longitude points in the following order: 40°41′37.14″ N, 074°03′49.36″ W; thence to 40°40′28.30″ N, 074°03′35.89″ W; thence to 40°40′09.12″ N, 074°03′49.98″ W; thence to 40°40′16.04″ N, 074°04′06.14″ W; then returning to its point of origin at 40°41′37.14″ N, 074°03′49.36″ W | Exclusive use for spectator vessels less than 82 feet (25 meters) in length.
4 | All navigable waters of the Upper Bay East of Port Liberty, New Jersey within a polygon formed by connecting the latitude and longitude points in the following order: 40°40′24.58″ N, 074°03′30.29″ W; thence to 40°40′05.59″ N, 074°03′01.78″ W; thence to 40°39′37.30″ N, 074°03′20.33″ W; thence to 40°39′51.52″ N, 074°03′54.28″ W; then returning to its point of origin at 40°40′24.58″ N, 074°03′30.29″ W | Exclusive use for spectator vessels between 82 feet (25 meters) and 197 feet (60 meters).
5 | All navigable waters of the Upper Bay south of Bayonne Dry Dock and west of Robbins Reef within a polygon formed by connecting the latitude and longitude points in the following order: 40°39′53.70″ N, 074°05′04.44″ W; thence to 40°39′53.16″ N, 074°04′59.22″ W; thence to 40°39′40.68″ N, 074°04′29.06″ W; thence to 40°39′31.03″ N, 074°04′18.39″ W; thence to 40°39′25.49″ N, 074°04′20.77″ W; thence to 40°39′16.24″ N, 074°04′42.47″ W; thence to 40°39′19.80″ N, 074°05′10.03″ W; thence along the shoreline to 40°39′34.05″ N, 074°05′24.49″ W; then returning to its point of origin at 40°39′53.70″ N, 074°05′04.44″ W | Exclusive use for spectator vessels less than 82 feet (25 meters) in length.
6 | All navigable waters of the Upper Bay in the vicinity of Robbins Reef within a polygon formed by connecting the latitude and longitude points in the following order: 40°39′46.13″ N, 074°03′59.42″ W; thence to 40°39′22.16″ N, 074°03′27.69″ W; thence to 40°38′57.98N, 074°03′34.90″ W; thence to 40°39′09.13″ N, 074°04′26.80″ W; then returning to its point of origin at 40°39′46.13″ N, 074°03′59.42″ W | Exclusive use for spectator vessels between 82 feet (25 meters) and 197 feet (60 meters).
7 | All navigable waters of the Upper New York Bay on the east side of the Anchorage Channel in the vicinity of Bay Ridge Channel within a polygon formed by connecting the latitude and longitude points in the following order: 40°38′03.44″ N, 074°02′20.63″ W; thence to 40°38′03.37″ N, 074°03′02.01″ W; thence to 40°37′21.69″ N, 074°02′47.88″ W; thence to 40°37′22.82″ N, 074°02′30.20″ W; then returning to its point of origin along the shoreline at 40°38′03.44″ N, 074°02′20.63″ W | Exclusive use for spectator vessels greater than 197 feet (60 meters).
8 | All navigable waters of the Upper New Bay on the east side of the Anchorage Channel in the vicinity of the Verrazano-Narrows Bridge within a polygon formed by connecting the latitude and longitude points in the following order: 40°37′22.82″ N, 074°02′30.20″ W; thence to 40°37′21.69″ N, 074°02′47.88″ W; thence to 40°36′30.53″ N, 074°02′29.64″ W; thence to 40°36′36.26″ N, 074°02′11.13″ W; then returning to its point of origin along the shoreline at 40°37′22.82″ N, 074°02′30.20″ W | Exclusive use for spectator vessels between 82 feet (25 meters) and 197 feet (60 meters).
9 | All navigable waters of the Lower New York Bay west of Ambrose Channel within a polygon formed by connecting the latitude and longitude points in the following order: 40°35′43.77″ N, 074°03′02.84″ W; thence to 40°35′50.99″ N, 074°02′40.96″ W; thence to 40°35′19.33″ N, 074°02′28.42″ W; thence to 40°34′20.73″ N, 074°02′11.99″ W; thence to 40°34′05.86″ N, 074°02′54.46″ W; thence to 40°34′49.43″ N, 074°03′02.81″ W; then returning to its point of origin at 40°35′43.77″ N, 074°03′02.84″ W | Exclusive use for any spectator vessel on a first-come first-served basis.

(ii) This section will be enforced from 3 p.m. on July 3, 2026, until 8 a.m. on July 5, 2026.

(c) Staging Areas. (i) Location, effective period, and prohibitions. Each area provided in the table below, expressed in Degrees (°) Minutes (′) Seconds (″) (DMS) based on the World Geodetic System (WGS 84), constitutes a staging area with its effective period and prohibitions.

Table 2 to § 100.T0199-0903—Supplemental Info to Paragraph (c)
Staging area | Location | Effective period | Prohibitions
Ellis Island | All navigable waters of the Upper Bay in the vicinity of Ellis Island within a polygon formed by connecting the latitude and longitude points in the following order: 40°41′46.04″ N, 074°02′22.59″ W; thence to 40°41′42.36″ N, 074°02′00.56″ W; thence to 40°41′35.73″ N, 074°02′02.75″ W; thence to 40°41′30.22″ N, 074°02′06.60″ W; thence to 40°41′41.62″ N, 074°02′29.03″ W; and then returning to its point of origin at 40°41′46.04″ N, 074°02′22.59″ W | From 3 p.m. on July 3, 2026, until 8 a.m. on July 5, 2026 | Exclusive use for Sail 4th 250 Command Vessels overseeing the Tall Ship Parade of Sail.
Governors Island (West) | All navigable waters of the Upper Bay west of Governors Island, within a polygon formed by connecting the latitude and longitude points in the following order: 40°41′33.54″ N, 074°01′25.86″ W; thence to 40°41′31.15″ N, 074°01′20.31″ W; thence to 40°41′17.31″ N, 074°01′34.86″ W; thence to 40°41′19.85″ N, 074°01′39.98″ W; then returning to its point of origin at 40°41′33.54″ N, 074°01′25.86″ W | From 3 p.m. on July 3, 2026, until 8 a.m. on July 5, 2026 | Exclusive use for Sail 4th 250 Command Vessels overseeing the Tall Ship Parade of Sail.
Governors Island (South) | All navigable waters of the Upper Bay south of Governors Island within a polygon formed by connecting the latitude and longitude points in the following order: 40°41′07.07″ N, 074°01′45.75″ W; thence to 40°40′54.67″ N, 074°01′32.69″ W; thence to 40°40′49.98″ N, 074°01′43.75″ W; thence to 40°41′01.84″ N, 074°01′54.83″ W; then returning to its point of origin at 40°41′07.07″ N, 074°01′45.75″ W | From 3 p.m. on July 3, 2026, until 8 a.m. on July 5, 2026 | Exclusive use for Sail 4th 250 Command Vessels overseeing the Tall Ship Parade of Sail.
Gravesend Bay | All navigable waters of Gravesend Bay within a polygon formed by connecting the latitude and longitude points in the following order: 40°36′06.70″ N, 074°01′47.53″ W; thence to 40°36′02.82″ N, 074°00′58.32″ W; thence 40°35′23.06″ N, 073°59′59.16″ W; thence to 40°34′57.08″ N, 074°01′19.96″ W; then returning to its point of origin at 40°36′06.70″ N, 074°01′47.53″ W | From 1 p.m. on July 3, 2026, until 4 p.m. on July 4, 2026 | Exclusive use for Sail 4th 250 Participant vessels awaiting the Tall Ship Parade of Sail.
Sandy Hook (West) | All navigable waters of Sandy Hook Bay in the vicinity of Naval Weapons Station Earle within a polygon formed by connecting the latitude and longitude points in the following order: 40°36′06.70″ N, 074°01′47.53″ W; thence to 40°36′02.82″ N, 074°00′58.32″ W; thence to 40°35′23.06″ N, 073°59′59.16″ W; thence to 40°34′57.08″ N, 074°01′19.96″ W; then returning to its point of origin at 40°36′06.70″ N, 074°01′47.53″ W | From 6 a.m. on July 2, 2026, until 4 p.m. on July 4, 2026 | Exclusive use for Sail 4th 250 Participant vessels awaiting the Tall Ship Parade of Sail.
Sandy Hook (East) | All navigable waters of Sandy Hook Bay within a polygon formed by connecting the latitude and longitude points in the following order: 40°28′30.0″ N, 074°01′42.0″ W; thence to 40°27′56.0″ N, 074°01′35.0″ W; thence to 40°27′54.0″ N, 074°01′25.0″ W; thence to 40°26′00.0″ N, 074°00′58.0″; thence to 40°26′00.0″ N, 074°02′00.0″ W; thence to 40°26′29.0″ N, 074°02′51.0″ W; thence to 40°27′29.0″ N, 074°02′10.0″ W; thence to 40°27′40.0″ N, 074°02′36.0″ W; thence to 40°28′07.0″ N, 074°02′19.0″ W; then returning to its point of origin at 40°28′30.0″ N, 074°01′42.0″ W | From 6 a.m. on July 2, 2026, until 4 p.m. on July 4, 2026 | Exclusive use for Sail 4th 250 Participant Vessels awaiting the Tall Ship Parade of Sail.

(d) Definitions. As used in this section—

Captain of the Port Representative or COTP Representative means a commissioned, warrant, or petty officer of the Coast Guard designated by name by the COTP to verify an event's compliance with the conditions of its approved permit.

Event Patrol Commander or Event PATCOM means a commissioned, warrant, or petty officer of the Coast Guard who has been designated by the respective Coast Guard Sector—Captain of the Port to enforce the regulations in this section.

Official patrol vessel or official patrol means any vessel assigned or approved by the respective COTP with a commissioned, warrant, or petty officer on board and displaying a Coast Guard ensign, or any state or local law enforcement vessel approved by the COTP in accordance with current local agreements.

Inflatable boat means a vessel that uses air-filled flexible fabric for buoyancy.

Paddlecraft means a vessel powered only by its occupants, using a single- or double-bladed paddle as a lever without the aid of a fulcrum provided by oarlocks, thole pins, crutches, or similar arrangements.

Participant means all persons and vessels registered with the Sail 4th 250 and International Naval Review 250 sponsors as a participant in their events.

Personal watercraft means any vessel propelled by a water-jet pump or other machinery as its primary source of motive power and designed to be operated by a person sitting, standing, or kneeling on the vessel, rather than sitting or standing within the vessel's hull.

Rowboat means an open vessel manually propelled by oars.

Seaplane means any aircraft designed to maneuver on the water.

Spectator area means an area bound by coordinates provided in latitude and longitude within the regulated area that outlines the boundary of an area reserved for spectator vessels watching the parade of sail or event.

Spectator means all persons and vessels not registered with the event sponsors as participants or official patrol vessels.

Staging area means an area bound by coordinates provided in latitude and longitude within the regulated area that outlines the boundary of an area reserved for Sail 4th 250 participant vessels and command vessels overseeing the Tall Ship Parade of Sail.

(e) Patrol of the marine event. COTP may assign one or more official patrol vessels, as described in § 100.40, to the regulated event. The Event PATCOM will be designated to oversee the patrol. The patrol vessel and the Event PATCOM may be contacted on VHF-FM Channel 16. The Event PATCOM may terminate the event with approval from the COTP at any time if deemed necessary for the protection of life or property.

(f) Special local regulations. Enforced otherwise cited in (a)(2)(ii). (1) No vessel except Sail 4th 250/International Naval Review 250 participating vessels and their assisting tugs, ticketed spectator vessels, and those vessels exempt from the regulations in this section may enter or navigate within Regulated Areas `A' or `B', unless specifically authorized by the Coast Guard Captain of the Port New York, or their designated representative from 6 a.m. on July 4, 2026, until the conclusion of the Tall Ship Parade of Sail.

(2) All vessels transiting Regulated Area `B' must do so at a slow no wake speed when within 100 yards of tall ships, U.S. Naval Vessels, foreign naval vessels, and law enforcement vessels anchored or moored.

(3) Not withstanding paragraph (f)(1), no vessel other than participating tall ships and naval vessels, their assisting tugs, and enforcement vessels, may enter or navigate within the boundaries of the main shipping channel (including Ambrose Channel, Anchorage Channel South, and Anchorage Channel North) or Hudson River in Regulated Area `B' during the Sail 4th 250 Tall Ship Parade of Sail and International Naval Review 250 unless specifically authorized by the COTP or their designated representative. No vessel in Regulated Area `B' is permitted to cross through the Tall Ship Parade of Sail, cross within 500 yards of the lead or last vessel in the Tall Ship Parade of Sail, or maneuver within 100 yards of any participant unless authorized to do so by the COTP or their designated representative.

(4) On July 4, 2026, any vessel transiting through Regulated Area `A' or `B' must make a direct passage. No vessel may stop, fish, or loiter. Vessels transiting to spectator areas may stop once in their authorized spectator area.

(5) No vessel is permitted to anchor in the main shipping channel (including Ambrose Channel, Anchorage Channel South, and Anchorage Channel North) or Hudson River outside of the designated spectator areas in Regulated Area `B' at any time without authorization.

(6) No vessel, other than Sail 4th 250 or International Naval Review 250 participant vessels, their assisting tugs, and enforcement vessels, are permitted to transit the waters between Governors Island and The Battery in southern Manhattan from 6 a.m., July 4, 2026, until the end of the Tall Ship Parade of Sail. Vessels which must transit to or from the East River outside of the restrictions established by paragraph (f)(3) may only do so by using Buttermilk Channel unless otherwise authorized by the COTP or the COTP's Representative.

(7) No vessels may anchor, loiter, or approach within 100 yards of any Sail 4th 250 participant vessel when navigating or anchored within an established staging area except for other participating vessels and their assisting tugs.

(8) On July 4, 2026, only those ferry services with prior written authorization from the COTP or designated representative will be authorized to operate in Regulated Area `B'. Ferry operators must follow all instructions given by the COTP's Representative.

(9) The operation of seaplanes, including taxiing, landing, and taking off, is prohibited in Regulated Area `B' on July 3, 2026, and July 4, 2026, without prior written authorization from the COTP or designated representative.

(10) The operation of personal watercraft, inflatable boats, paddlecraft, and row boats are prohibited in Regulated Area `B'.

(11) All persons are prohibited from swimming, conducting underwater diving operations, operating surface or underwater drones, and conducting surveying operations in Regulated Area `B', without prior written authorization from the COTP or the designated representative.

(12) Vessels deciding to anchor within the designated spectator areas outlined in Table 1 above of this section are subject to the following regulations:

(i) Ensure their vessels are properly anchored and remain safely in position at anchor during the events.

(ii) Vessels must display anchor lights and day shapes, as required by the Navigation Rules in 33 CFR part 83.

(iii) Do not leave vessels unattended in any spectator area at any time.

(iv) Do not tie off to any aid to navigation, buoy, or mooring ball.

(v) Maintain at least 20 feet of clearance between anchored vessels.

(13) The COTP will provide notice of the regulated areas through advanced notice via the Local Notice to Mariners, Broadcast Notice to Mariners, and by on-scene designated representatives.

Note to § 100.T0199-0903: CAUTION: Mariners are cautioned that the areas designated as spectator areas in this section have not been subject to any special survey or inspection and that charts may not show all seabed obstructions or the shallowest depths. In addition, if you decide to anchor, spectator areas are in areas of substantial currents, and not all spectator areas are over good holding ground. Mariners are advised to take appropriate precautions when using these temporary spectator areas.

Note to § 100.T0199-0903: Untreated sewage discharges are prohibited within three miles from shore. Section 312 of the Clean Water Act requires the use of operable, U.S. Coast Guard-certified marine sanitation devices onboard vessels that are equipped with installed toilets and operating on U.S. navigable waters. Additionally, parts of the Hudson River located in EPA Region 02 are No-Discharge Zones. No-Discharge Zones prohibit the discharge of sewage from vessels to protect water quality. Mariners are warned they cannot discharge any treated or untreated sewage within a No-Discharge Zone and must instead retain it on board and use onshore pump-out facilities to dispose of it later. Additional information on commercial pump-out vessels or the location of onshore pump-out facilities dedicated to the collection and legal disposal of marine sewage may be found at https://www.epa.gov/vessels-marinas-and-ports/no-discharge-zones-ndzs-state#ny.

PART 110—ANCHORAGE REGULATIONS

1. The authority citation for part 110 continues to read as follows:

Authority: 33 U.S.C. 2071; 46 U.S.C. 70006, 70034; 33 CFR 1.05-1; Department of Homeland Security Delegation No. 0170.1, Revision No. 4.

2. Temporarily stay paragraphs (c)(1), (c)(2), (c)(5)(ii), (d)(1), (d)(2), (d)(3), (d)(4), (d)(5), (d)(7), (d)(8), (d)(11), (d)(12), (d)(13), (d)(14), (d)(15), (e)(1), (m)(2), and (m)(3) of 33 CFR 110.155, effective from July 1, 2026, through July 9, 2026.

3. Add a Note to § 110.155, effective from July 1, 2026, through July 9, 2026, to read as follows:

Note to § 110.155: Vessels seeking to anchor in an anchorage ground while it is temporarily suspended and not being used as a spectator area or staging area for the exclusive use of Sail 4th 250 and International Naval Review 250 must request authorization from the Vessel Traffic Service (VTS) via VHF-FM channel 14 or by telephone at (718) 354-4088. If permission is granted, all vessels must comply with lawful instructions of the VTS.

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T01-0903 to read as follows:

§ 165.T01-0903 Security Zones; Sail 4th 250, International Naval Review 250; Port of New York and New Jersey.

(a) The following areas are established as security zones:

(1) Security Zones for Foreign Naval Vessels.

(i) Location: All navigable waters within Sector New York Marine Inspection and Captain of the Port Zone as described in 33 CFR 3.05-30 extending from the surface to bottom, within a 100-yard radius of any foreign naval vessels.

(ii) Effective and enforcement period: This rule will be effective from 12:01 a.m. July 1, 2026, through 11:59 p.m. on July 9, 2026. The Captain of the Port (COTP) will make notification of the exact names of the vessels in advance of each enforcement period for the security zone to the local maritime community through the Local Notice to Mariners (LNMs) and Broadcast Notices to Mariners (BNMs). The Northeast Coast Guard District Local Notice to Mariners can be found at: http://www.navcen.uscg.gov.

(2) Moving Security Zone for the U.S. Naval Review Ship.

(i) Location: All navigable waters surface to bottom, within a 500-yard radius of the U. S. Naval Review Ship as it transits the Hudson River and Upper New York Bay between the Spuyten Duyvil and the Verrazano-Narrows Bridge.

(ii) Effective and enforcement periods: This rule will be effective from 5 a.m. July 4, 2026, through 1 p.m. on July 4, 2026, but the security zone for the U.S. Naval Review Ship in paragraph(a)(2)(i) will only be enforced while the vessel is underway as the review ship while conducting the International Naval Review. The COTP will make notification of the exact name of the review ship in advance of the enforcement period for the moving security zone to the local maritime community through the LNMs and BNMs.

(3) Security Zone for the Reviewing Official Viewing Platform.

(i) Location: All navigable waters of Upper New York Harbor in the vicinity of Anchorage 21-B, extending from the surface to bottom, within a 500-yard radius of the U.S. Naval Ship serving as the Reviewing Official viewing platform during the Tall Ship Parade of Sail. The COTP will make notification to the local maritime community of the exact name of the vessel in advance of the enforcement period through the Local Notice to Mariners.

(ii) Effective and enforcement periods: This rule will be enforced from 8 a.m. until 11:59 p.m. on July 4, 2026.

(4) Security Zone Areas. Each area provided in the table below, expressed in Degrees (°) Minutes (′) Seconds (″) (DMS) based on the World Geodetic System (WGS 84), constitutes a security zone.

Table 3—Supplemental Info to Paragraph (a)(4)
Security zone name | Location
SECURITY ZONE ALPHA | All navigable waters of the west side of the Hudson River between Englewood Cliffs and Linwood, NJ, within a polygon formed by connecting the latitude and longitude points in the following order: 40°52′53.05″ N, 073°56′37.73″ W; thence to 40°52′43.56″ N, 073°55′57.85″ W; thence to 40°51′25.87″ N, 073°56′44.98″ W; thence to 40°51′33.40″ N, 073°57′16.75″ W; then returning to the point of origin along the shoreline at 40°52′53.05″ N, 073°56′37.73″ W.
SECURITY ZONE BRAVO | All navigable waters of the west side of the Hudson River between Fort Lee and Edgewater, NJ, within a polygon formed by connecting the latitude and longitude points in the following order: 40°50′46.36″ N, 073°57′49.57″ W; thence to 40°50′25.84″ N, 073°57′14.78″ W; thence to 40°50′10.92″ N, 073°57′12.95″ W; thence to 40°49′49.82″ N, 073°57′24.27″ W; thence to 40°49′08.58″ N, 073°57′54.16″ W; thence to 40°49′19.63″ N, 073°58′26.91″ W; and then returning to the point of origin along the shoreline at 40°50′46.36″ N, 073°57′49.57″ W.
SECURITY ZONE CHARLIE | All navigable waters of the west side of the Hudson River near Edgewater, NJ, within a polygon formed by connecting the latitude and longitude points in the following order: 40°49′19.63″ N, 073°58′26.91″ W; thence to 40°49′08.58″ N, 073°57′54.16″ W; thence to 40°48′42.34″ N, 073°58′11.73″ W; thence to 40°48′08.25″ N, 073°58′36.03″ W; thence to 40°46′55.64″ N, 073°59′31.04″ W; thence to 40°46′38.43″ N, 073°59′44.81″ W; thence to 40°45′44.45″ N, 074°00′34.98″ W; thence to 40°45′53.18″ N, 074°01′01.50″ W; then returning to the point of origin along the shoreline at 40°49′19.63″ N, 073°58′26.91″ W.
SECURITY ZONE DELTA | All navigable waters of the west side of the Hudson River between Castle Point and Jersey City, NJ within a polygon formed by connecting the latitude and longitude points in the following order: 40°44′45.32″ N, 074°01′21.34″ W; thence to 40°44′40.47″ N, 074°00′56.05″ W; thence to 40°44′14.50″ N, 074°00′57.08″ W; thence to 40°42′47.24″ N, 074°01′19.7″ W; thence to 40°42′51.52″ N, 074°01′59.43″ W; and then returning to its point of origin along the shoreline at 40°44′45.32″ N, 074°01′21.34″ W.
SECURITY ZONE ECHO | All navigable waters of the west side of the Hudson River near Jersey City, NJ, to Ellis Island, NJ within a polygon formed by connecting the latitude and longitude points in the following order: 40°42′51.52″ N, 074°01′59.43″ W; thence to 40°42′47.24″ N, 074°01′19.7″ W; thence to 40°41′55.48″ N, 074°01′26.32″ W; thence to 40°41′46.07″ N, 074°01′34.33″ W; thence to 40°41′49.33″ N, 074°01′58.02″ W; thence to 40°42′20.76″ N, 074°02′05.57″ W; thence to 40°42′32.97″ N, 074°02′04.93″ W; thence to 40°42′42.28″ N, 074°02′01.39″ W; then returning to its point of origin along the shoreline at 40°42′51.52″ N, 074°01′59.43″ W.
SECURITY ZONE FOXTROT | All navigable waters of the Upper New York Bay on the east side of the Anchorage Channel between Red Hook, NY and Bay Ridge, NY, within a polygon formed by connecting the latitude and longitude points in the following order: 40°40′18.97″ N, 074°02′24.01″ W; thence to 40°40′27.04″ N, 074°01′46.71″ W; thence to 40°40′23.69″ N, 074°01′33.56″ W; thence to 40°39′03.33″ N, 074°02′24.57″ W; thence to 40°38′55.08″ N, 074°02′17.40″ W; thence to 40°38′44.10″ N, 074°02′28.82″ W; thence to 40°39′19.67″ N, 074°03′01.81″ W; thence to 40°39′36.58″ N, 074°02′53.42″ W; then returning to its point of origin 40°40′18.97″ N, 074°02′24.01″ W.
SECURITY ZONE GOLF | All navigable waters of the Upper New York Bay on the east side of the Anchorage Channel near Bay Ridge, Brooklyn, NY, within a polygon formed by connecting the latitude and longitude points in the following order: 40°39′19.67″ N, 074°03′01.81″ W; thence to 40°38′44.10″ N, 074°02′28.82″ W; thence to 40°38′03.37″ N, 074°02′47.70″ W; thence to 40°38′03.37″ N, 074°03′02.01″ W; thence to 40°38′28.00″ N, 074°03′19.12″ W; then returning to its point of origin at 40°39′19.67″ N, 074°03′01.81″ W.
SECURITY ZONE HOTEL | All navigable waters of the Upper New York Bay on the west side of the Anchorage Channel near Stapleton Anchorage within a polygon formed by connecting the latitude and longitude points in the following order: 40°38′33.68″ N, 074°04′13.45″ W; thence to 40°38′38.17″ N, 074°04′12.15″ W; thence to 40°38′40.15″ N, 074°03′45.67″ W; thence to 40°38′11.14″ N, 074°03′27.16″ W; thence to 40°37′09.56″ N, 074°03′03.96″ W; thence to 40°36′57.15″ N, 074°03′46.95″ W; thence to its point of origin along the shoreline at 40°38′33.68″ N, 074°04′13.45″ W.
SECURITY ZONE INDIA | All navigable waters of the Upper New York Bay on the west side of the Anchorage Channel near Stapleton Anchorage within a polygon formed by connecting the latitude and longitude points in the following order: 40°36′57.15″ N, 074°03′46.95″ W; thence to 40°37′09.56″ N, 074°03′03.96″ W; thence to 40°36′23.23″ N, 074°02′43.82″ W; thence to 40°36′14.43″ N, 074°03′13.36″ W; and then to its point of origin along the shore line at 40°36′57.15″ N, 074°03′46.95″ W.

(i) Effective and enforcement period: This rule will be effective from 12:01 a.m. July 1, 2026, through 11:59 p.m. on July 9, 2026, but the individual security zone locations provided in Table 1 to (a)(4) will only be enforced while U.S. or foreign naval vessels are anchored or moored within the location. The COTP will make notification of the exact dates and times in advance of each enforcement period for each security zone to the local maritime community through the Local Notice to Mariners, Broadcast Notice to Mariners, Marine Safety Information Bulletins, or Coast Guard Advisory Notices.

(b) Definitions. As used in this section, Designated Representative means a Coast Guard coxswain, petty officer, or other officer or a Federal, State, and local officer designated by or assisting the COTP in the enforcement of the security zone.

Foreign Naval Vessel means any naval vessel of a foreign state, which is not required to be licensed for entry into the U.S. for visit purposes under 22 CFR 126.6, provided it is not undergoing repair or overhaul.

U.S. Naval Vessel means any vessel owned, operated, chartered, or leased by the U.S. Navy; any pre-commissioned vessel under construction for the U.S. Navy, once launched into the water; and any vessel under the operational control of the U.S. Navy or a Combatant Command.

(c) Regulations. (1) Under the general security zone regulations in subpart C of this part, you may not enter the security zones described in paragraph (a) of this section unless authorized by the COTP or the COTP's designated representative.

(2) To seek permission to enter, contact the COTP or the COTP's Representative on VHF-FM channel 16 or by telephone at (844) NYC-USCG. Those in a security zone must comply with all lawful orders or directions given to them by the COTP or the COTP representative.

(3) The Coast Guard Northeast District Local Notice to Mariners can be found at: http://www.navcen.uscg.gov.

Dated: December 16, 2025.
M.E. Platt,
Rear Admiral, U.S. Coast Guard, Commander, Coast Guard Northeast District.

[FR Doc. 2025-23435 Filed 12-18-25; 8:45 am]

BILLING CODE 9110-04-P